DEPARTMENT OF DEFENSE

Department of the Army; Army Corps of Engineers

Notice of Intent To Prepare an Environmental Impact Statement for 408 Permission and 404 Permit to Three Rivers Levee Improvement Authority for the Feather River Levee Repair Project, California, Segment 2

AGENCY: Department of the Army, U.S. Army Corps of Engineers, DoD.

ACTION: Notice of intent.

SUMMARY: The action being taken is the preparation of an Environmental Impact Statement (EIS) for the issuance of both the 408 permission to the Central Valley Flood Protection Board and 404 Permit to Three Rivers Levee Improvement Authority (TRLIA) for their work on the Feather River Levee Repair Project (FRLRP). Under 33 U.S.C. 408, the Chief of Engineers grants permission to alter an existing flood control structure if it is not injurious to the public interest and does not impair the usefulness of such work. Under section 404 of the Clean Water Act, the District Engineer permits the discharge of dredged or fill material into waters of the United States if the discharge meets the requirements of the Environmental Protection Agency's 404(b)(1) guidelines and is not contrary to the public interest. The FRLRP is located in Yuba County, CA. TRLIA is requesting this permission and permit in order to complete construction along the east levee of the Feather River.

DATES: A public scoping meeting will be held March 10, 2008, 6:30 to 8:30 at the Yuba County Government Center, 915 8th Street, Marysville, CA. Send written comments by April 9, 2008 to the address below.

ADDRESSES: Send written comments and suggestions concerning this study to Mr. John Suazo, U.S. Army Corps of Engineers, Sacramento District, Attn: Planning Division (CESPK-PD-R), 1325 J Street, Sacramento, CA 95814. Requests to be placed on the mailing list should also be sent to this address.

FOR FURTHER INFORMATION CONTACT: Questions about the proposed action and EIS should be addressed to John Suazo at (916) 557-6719, e-mail: john.suazo@usace.army.mil or by mail to (see ADDRESSES).

SUPPLEMENTARY INFORMATION: 1. Proposed Action. The U.S. Army Corps of Engineers is preparing an EIS to analyze the impacts of the work proposed by TRLIA from the implementation of the FRLRP, Segment 2. The FRLRP, Segment 2 is being constructed by TRLIA to improve flood protection to portions of Yuba County and Reclamation District (RD) 784.

2. Alternatives. The EIS will address an array of flood control improvement alternatives along Segment 2. Alternatives analyzed during the investigation will include a combination of one or more flood protection measures. These measures include seepage berms, stability berms, setback levees, seepage cutoff walls, and relocation of a pump station.

3. Scoping Process. a. The Corps has initiated a process to involve concerned individuals, and local, State, and Federal agencies. A public scoping meeting will be held on March 10, 2008 to present information to the public and to receive comments from the public.

b. Significant issues to be analyzed in depth in the EIS include effects on hydraulic, wetlands and other waters of the U.S., vegetation and wildlife resources, special-status species, cultural resources, land use, fisheries, water quality, air quality, transportation, and socioeconomics; and cumulative effects of related projects in the study area.

c. The Corps is consulting with the State Historic Preservation Officer to comply with the National Historic Preservation Act, and the National Marine Fisheries Service and the U.S. Fish and Wildlife Service to comply with the Endangered Species Act. Coordination with the National Marine Fisheries Service has been completed; coordination with U.S. Fish and Wildlife Service is still ongoing.

d. A 45-day public review period will be provided for individuals and agencies to review and comment on the draft EIS. All interested parties are encouraged to respond to this notice and provide a current address if they wish to be notified of the draft EIS circulation.

4. Availability. The draft EIS is scheduled to be available for public review and comment in early 2008.

Dated: February 22, 2008.
Thomas C. Chapman,
COL, EN, Commanding.

[FR Doc. E8-3919 Filed 2-28-08; 8:45 am]

BILLING CODE 3710-EZ-P